DEPARTMENT OF HEALTH AND HUMAN SERVICES

Centers of Disease Control and Prevention

Notice of Public Meeting

AGENCY: National Institute for Occupational Safety and Health (NIOSH) of the Centers for Disease Control and Prevention (CDC), Department of Health and Human Services (HHS).

SUMMARY: The National Institute for Occupational Safety and Health (NIOSH) of the Centers for Disease Control and Prevention (CDC) announces the following meeting and request for public comment on the NIOSH Research Project entitled “Effectiveness of Extension Ladder Safety Innovations”. The meeting will include a presentation/overview of the project that will be followed by comments on the technical and scientific aspects of the planned research. Viewpoints and suggestions from industry, labor, academia, other government agencies, and the public are invited. Written comments also will be considered. Written comments should be sent to Dr. Peter Simeonov, NIOSH, Division of Safety Research, Mailstop G800, 1095 Willowdale Road, Morgantown, West Virginia 26505-2888 or via E-mail at psimeonov@cdc.gov, and should be received on or before March 31, 2008.

Public Meeting Time and Date: 9 a.m.-12 p.m., April 9, 2008.

Place: NIOSH, 1095 Willowdale Road, Conference Room L-1BCD, Morgantown, West Virginia 26505-2888.

Purpose of Meeting: To provide individual comments on the technical and scientific aspects of the research proposal directed to the prevention of fall injuries associated with the use of extension ladders among construction workers. The proposed research seeks to establish engineering solutions, with human factors considerations beyond the traditional regulation and training approaches, to minimize the possibility of workers making unsafe choices or actions, and thus reduce fall-from-ladder incidents.

Status: The meeting is open to the public, limited only by the space available (the room accommodates approximately 50 people). Due to limited space, notification of intent to attend the meeting must be made to Peter Simeonov, Ph.D., no later than March 31. Dr. Simeonov can be reached at (304) 285-6268 or by E-mail at psimeonov@cdc.gov. Requests to attend the meeting will be accommodated on a first-come basis.

Contact Persons for Technical Information: Hongwei Hsiao and Dr. Simeonov, Project Officers, Division of Safety Research, NIOSH, CDC, Mailstop G800, 1095 Willowdale Road, Morgantown, West Virginia 26505-2888, (304) 285-5910 and (304) 285-6268, E-mail hhsiao@cdc.gov & psimeonov@cdc.gov. Copies of the research proposal may be obtained by contacting Dr. Simeonov.

Dated: February 27, 2008.
James D. Seligman,
Chief Information Office, Centers for Disease Control and Prevention.

[FR Doc. E8-4334 Filed 3-5-08; 8:45 am]

BILLING CODE 4163-19-P